DEPARTMENT OF AGRICULTURE

Animal and Plant Health Inspection Service

9 CFR Part 94

[Docket No. APHIS-2007-0124]

Change in Disease Status of Surrey County, England, Because of Foot-and-Mouth Disease

AGENCY: Animal and Plant Health Inspection Service, USDA.

ACTION: Interim rule and request for comments.

SUMMARY: We are amending the regulations governing the importation of certain animals, meat, and other animal products by removing Surrey County, England, from the list of regions considered to be free of foot-and-mouth disease (FMD). We are taking this action because the existence of FMD has been confirmed in that area. This action is necessary to prevent the introduction of FMD into the United States. As a result of this interim rule the importation of ruminants and swine and the fresh meat and other animal products of ruminants and swine from Surrey County, England, is restricted.

DATES: This interim rule is effective January 30, 2008. However, we are imposing this restriction retroactively to August 3, 2007. We will consider all comments that we receive on or before March 31, 2008.

ADDRESSES: You may submit comments by either of the following methods:

• Federal eRulemaking Portal: Go to http://www.regulations.gov/fdmspublic/component/main?main=DocketDetail&d=APHIS-2007-0124 to submit or view comments and to view supporting and related materials available electronically.

• Postal Mail/Commercial Delivery: Please send two copies of your comment to Docket No. APHIS-2007-0124, Regulatory Analysis and Development, PPD, APHIS, Station 3A-03.8, 4700 River Road, Unit 118, Riverdale, MD 20737-1238. Please state that your comment refers to Docket No. APHIS-2007-0124.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Chip Wells, Senior Staff Veterinarian, Regionalization Evaluation Services Import Staff, National Center for Import and Export, VS, APHIS, 4700 River Road, Unit 38, Riverdale, MD 20737-1231; (301) 734-4356.

SUPPLEMENTARY INFORMATION:

Background

Foot-and-mouth disease (FMD) is a severe and highly contagious viral infection affecting all cloven-hoofed ruminants, including cattle, deer, goats, sheep, swine, and other animals. The disease is highly communicable and is characterized by fever and blister-like lesions on the tongue and lips, in the mouth, on the teats, and between the hooves. It causes severe losses in the production of meat, milk, and other dairy products. Although many animals survive the disease, it leaves them debilitated. FMD is endemic to more than two-thirds of the world and is considered to be widespread in parts of Africa, Asia, Europe, and South America. Because of the highly communicable nature of FMD, it is necessary to protect livestock that are free of the disease from any animals, animal products, or other articles that might be contaminated with the FMD virus.

Although FMD was eradicated in the United States in 1929, the virus could be reintroduced by a single infected animal, animal product, or person carrying the virus. Once introduced, FMD can spread quickly through exposure to aerosols from infected animals, direct contact with infected animals, contact with contaminated feed or equipment, ingestion of animal products, or contact with humans harboring the virus or carrying the virus on their clothing.

The regulations in 9 CFR part 94 (referred to below as the regulations) govern the importation of certain animals and animal products into the United States in order to prevent the introduction of various animal diseases, including rinderpest and FMD. Section 94.1 of the regulations lists regions of the world that are considered free of rinderpest and FMD. The United Kingdom (England, Northern Ireland, Scotland, Wales, and the Isle of Man), in its entirety, has been listed in § 94.1 as a region considered free of rinderpest and FMD. Section 94.11 lists regions of the world considered free of rinderpest and FMD but from which the importation of meat and other animal products into the United States is subject to additional restrictions because of those regions' proximity to or trading relationships with FMD-affected regions. The United Kingdom is currently listed in § 94.11 as one of the regions from which meat and other animal products of ruminants and swine are subject to additional restrictions.

On August 3, 2007, the United Kingdom reported an outbreak of FMD in Surrey County, England, to the World Organization for Animal Health (OIE). A second outbreak was reported on August 7, 2007. By September 30, 2007, a total of eight outbreaks had been confirmed. All infected premises were located in Surrey County. As a precautionary measure, the United Kingdom, in agreement with the European Commission, has since August 3, 2007, restricted exports of ruminants and swine and the fresh meat and other animal products of ruminants and swine, initially from all of Great Britain and subsequently from smaller regions within Great Britain. Epidemiological investigations and risk assessments conducted by the United Kingdom link the source of the outbreaks in Surrey County with a probably accidental release of the FMD virus from a laboratory and vaccine production facility in Pirbright. Intensive surveillance has demonstrated that the virus never spread outside of Surrey County. The United Kingdom and the European Commission removed all restrictions in Great Britain on December 31, 2007.

Based on our discussions with the United Kingdom's veterinary officials and our evaluation of the situation, we have determined that: (1) FMD is not known to exist in the United Kingdom outside of Surrey County, England; (2) the United Kingdom maintained strict control over the importation and movement of animals and animal products from regions of higher risk and established barriers to the spread of FMD from Surrey County, England; (3) the United Kingdom maintained a surveillance system capable of detecting FMD should the disease have been introduced into other regions of the country; and (4) the United Kingdom has the laws, policies, and infrastructure to detect, respond to, and eliminate any occurrence of FMD. Consequently, until such time as we are able to conclude our own risk assessment of the Surrey County outbreaks, we have decided to remove the affected portion of the United Kingdom encompassing the administrative unit Surrey County, England, from the list of regions considered free of FMD. We are taking this action in order to protect the livestock of the United States from FMD.

Therefore, we are amending the regulations in § 94.1 to remove Surrey County, England, from the list of regions that are considered free of rinderpest and FMD. We are also amending the regulations in § 94.11 to remove Surrey County, England, from the list of regions considered free of rinderpest and FMD but from which the importation of meat and other animal products of ruminants and swine into the United States is subject to additional restrictions. We are imposing this restriction retroactively to August 3, 2007, which is the date that the presence of FMD in this region of England was first confirmed.

We recognize that the United Kingdom immediately responded to the detection of the disease by imposing restrictions on the movement of ruminants and swine and the fresh meat and other animal products of ruminants and swine within and from England and initiating measures to eradicate the disease, and the outbreak appears to be well controlled at this time. Because of the United Kingdom's efforts to ensure that FMD does not spread beyond its borders, we intend to reassess the situation in accordance with the standards of the OIE at a future date. As part of the reassessment process, we will consider all comments received during the comment period on this interim rule. This future reassessment will determine whether it is necessary to continue to prohibit the importation of ruminants and swine and the fresh meat and other animal products of ruminants and swine from Surrey County, England.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This emergency situation makes timely compliance with section 604 of the Regulatory Flexibility Act (5 U.S.C. 601, et seq.) impracticable. We are currently assessing the potential economic effects of this action on small entities. Based on that assessment, we will either certify that the rule will not have a significant economic impact on a substantial number of small entities or publish a regulatory flexibility analysis.

Executive Order 12988

This rule has been reviewed under Executive Order 12988, Civil Justice Reform. This rule: (1) Preempts all State and local laws and regulations that are inconsistent with this rule; (2) has retroactive effect to August 3, 2007; and (3) does not require administrative proceedings before parties may file suit in court challenging this rule.

Paperwork Reduction Act

This interim rule contains no information collection or recordkeeping requirements under the Paperwork Reduction Act of 1995 (44 U.S.C. 3501, et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.1 [Amended]

2. In § 94.1, paragraph (a)(2) is amended by adding the words “(except for Surrey County, England)” immediately after the words “United Kingdom.”

§ 94.11 [Amended]

3. In § 94.11, paragraph (a) is amended by adding the words “(except for Surrey County, England)” immediately after the words “United Kingdom.”

Done in Washington, DC, this 24th day of January 2008.
Paul R. Eggert,
Acting Administrator, Animal and Plant Health Inspection Service.

[FR Doc. E8-1653 Filed 1-29-08; 8:45 am]

BILLING CODE 3410-34-P